DEPARTMENT OF ENERGY

[GDO Docket No. EA-500]

Application for Authorization To Export Electric Energy; MFT Energy US Power LLC

AGENCY: Grid Deployment Office, Department of Energy.

ACTION: Notice of application.

SUMMARY: MFT Energy US Power LLC (the Applicant) has applied for authorization to transmit electric energy from the United States to Canada pursuant to the Federal Power Act.

DATES: Comments, protests, or motions to intervene must be submitted on or before September 29, 2023.

ADDRESSES: Comments, protests, motions to intervene, or requests for more information should be addressed by electronic mail to Electricity.Exports@hq.doe.gov.

FOR FURTHER INFORMATION CONTACT: Christina Gomer, (240) 474-2403, Electricity.Exports@hq.doe.gov.

SUPPLEMENTARY INFORMATION: The United States Department of Energy (DOE) regulates electricity exports from the United States to foreign countries in accordance with section 202(e) of the Federal Power Act (FPA) (16 U.S.C. 824a(e)) and regulations thereunder (10 CFR 205.300 et seq.). Sections 301(b) and 402(f) of the DOE Organization Act (42 U.S.C. 7151(b) and 7172(f)) transferred this regulatory authority, previously exercised by the now-defunct Federal Power Commission, to DOE.

Section 202(e) of the FPA provides that an entity which seeks to export electricity must obtain an order from DOE authorizing that export. (16 U.S.C. 824a(e)). On April 10, 2023, the authority to issue such orders was delegated to the DOE's Grid Deployment Office (GDO) by Delegation Order No. S1-DEL-S3-2023 and Redelegation Order No. S3-DEL-GD1-2023.

On May 15, 2023, MFT Energy US Power LLC filed an application with DOE (Application or App.) for authorization to transmit electric energy to Canada for a ten-year term. App. at 1.

In its Application, MFT Energy US Power LLC states that it is “wholly owned by MFT Energy US, Inc., a Delaware corporation” which the Applicant states is “wholly owned by MFT Energy A/S, registered in Denmark.” Id. The Applicant states it “owns a 75% interest in MFT Energy US 1 LLC” and further states that “MFT Energy US 1 LLC does not own any franchised service territory, and does not control any physical electric generation or transmission facilities in the United States.” Id. at 1-2. The Applicant represents that it “has no other affiliates or upstream owners that own any franchised service territory, or control any physical electric generation or transmission facilities in the United States.” Id. at 2. MFT Energy US Power LLC also states it “will purchase surplus electric energy from entities within the United States to be exported to Canada. Because Applicant has no franchised service territory and therefore no native load obligations, and the power it proposes to purchase and export is surplus to the needs of those entities selling electric power to Applicant, the proposed export of electricity will not impair the sufficiency of electric supply within the United States and meets the first statutory criterion of Section 202(e).” Id. at 3.

The existing international transmission facilities to be utilized by the Applicant have been previously authorized by Presidential permits issued pursuant to Executive Order 10485, as amended, and are appropriate for open access transmission by third parties. See id. at Exhibit C.

Procedural Matters: Any person desiring to be heard in this proceeding should file a comment or protest to the Application at Electricity.Exports@hq.doe.gov. Protests should be filed in accordance with Rule 211 of Federal Energy Regulatory Commission's (FERC's) Rules of Practice and Procedure (18 CFR 385.211). Any person desiring to become a party to this proceeding should file a motion to intervene at Electricity.Exports@hq.doe.gov in accordance with FERC Rule 214 (18 CFR 385.214).

Comments and other filings concerning MFT Energy US Power LLC's Application should be clearly marked with GDO Docket No. EA-500. Additional copies are to be provided directly to Simon Fisker Rathjen, MFT Energy US Power LLC, 70 W. Madison Street, Chicago, IL 60602, sr@mft-energy.com and uspower@mft-energy.com.

A final decision will be made on the requested authorization after the environmental impacts have been evaluated pursuant to DOE's National Environmental Policy Act Implementing Procedures (10 CFR part 1021) and after DOE evaluates whether the proposed action will have an adverse impact on the sufficiency of supply or reliability of the United States electric power supply system.

Copies of this Application will be made available, upon request, by accessing the program website at https://www.energy.gov/gdo/pending-applications or by emailing Electricity.Exports@hq.doe.gov.

Signing Authority: This document of the Department of Energy was signed on August 24, 2023, by Maria Robinson, Director, Grid Deployment Office, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC on August 25, 2023.
Treena V. Garrett,
Federal Register Liaison Officer, U.S. Department of Energy.

[FR Doc. 2023-18720 Filed 8-29-23; 8:45 am]

BILLING CODE 6450-01-P